COMMISSION ON CIVIL RIGHTS

Notice of Public Meetings of the Pennsylvania Advisory Committee to the U.S. Commission on Civil Rights

AGENCY: U.S. Commission on Civil Rights.

ACTION: Notice of business meetings.

SUMMARY: Notice is hereby given, pursuant to the provisions of the rules and regulations of the U.S. Commission on Civil Rights (Commission) and the Federal Advisory Committee Act, that the Pennsylvania Advisory Committee (Committee) to the U.S. Commission on Civil Rights will hold a series of public business meetings via Zoom. The purpose of these buiness meetings is review and finalize the Committee's forthcoming report on the Rising Use of Artificial Intelligence (AI) in Education. The Committee will also discuss any post-report activities as appropriate and conclude the current appointment term (appiontemnt term ending December 10, 2024).

DATES:

• Wednesday, October 16, 2024, from 12:00 p.m.-1:30 p.m. Eastern Time

• Wednesday, October 30, 2024, from 12:00 p.m.-1:30 p.m. Eastern Time

• Wenesday, November 13, 2024, from 12:00 p.m.-1:30 p.m. Eastern Time

• Wednesday, November 20, 2024 from 12:00 p.m.-1:00 p.m.

• Wednesday, December 4, 2024 from 12:00 p.m.-1:00 p.m.

ADDRESSES: These meetings will be held via Zoom.

October 16th Meeting

• Registration Link: (Audio/Visual): https://www.zoomgov.com/webinar/register/WN_RH0wfg80SY-sDkBam2Cu_g

• Join by Phone (Audio Only): 1-833-435-1820 USA Toll Free; Webinar ID: 161 732 9061#

October 30th Meeting:

• Registration Link (Audio/Visual): https://www.zoomgov.com/webinar/register/WN_P6h_LdtFQXerbOnkRnlJcQ

• Join by Phone (Audio Only): 1-833-435-1820 USA Toll Free; Webinar ID: 161 139 0042#

November 13th Meeting:

• Registration Link (Audio/Visual): https://www.zoomgov.com/webinar/register/WN_p_bRdCo0S0eNVOoJ99-pzQ

• Join by Phone (Audio Only): 1-833-435-1820 USA Toll Free; Webinar ID: 161 449 8622#

November 20th Meeting:

• Registration Link (Audio/Visual): https://www.zoomgov.com/webinar/register/WN_0FSZLQ_zQtiZETBNFESSTQ

• Join by Phone (Audio Only): 1-833-435-1820 USA Toll Free; Webinar ID: 161 536 9616#

December 4th Meeting:

• Registration Link (Audio/Visual): https://www.zoomgov.com/webinar/register/WN_qn4xWCd2TnWQYyl7sS5jsA

• Join by Phone (Audio Only): 1-833-435-1820 USA Toll Free; Webinar ID: 160 979 9134#

FOR FURTHER INFORMATION CONTACT: Melissa Wojnaroski, Designated Federal Officer, at mwojnaroski@usccr.gov or 1-202-618-4158.

SUPPLEMENTARY INFORMATION: These Committee meetings are available to the public through the registration links above. Any interested members of the public may attend these meetings. An open comment period will be provided to allow members of the public to make oral statements as time allows. Pursuant to the Federal Advisory Committee Act, public minutes of the meeting will include a list of persons who are present at these meetings. If joining via phone, callers can expect to incur regular charges for calls they initiate over wireless lines, according to their wireless plan. The Commission will not refund any incurred charges. Callers will incur no charge for calls they initiate over land-line connections to the toll-free telephone number. Closed captioning is available by selecting “CC” in the meeting platform. To request additional accommodations, please email csanders@usccr.gov at least 10 business days prior to each meeting.

Members of the public are entitled to submit written comments; the comments must be received in the regional office within 30 days following the scheduled meeting. Written comments may be emailed to Melissa Wojnaroski at mwojnaroski@usccr.gov. Persons who desire additional information may contact the Regional Programs Coordination Unit at 1-202-618-4158.

Records generated from these meetings may be inspected and reproduced at the Regional Programs Coordination Unit Office, as they become available, both before and after each meeting. Records of the meetings will be available via www.facadatabase.gov under the Commission on Civil Rights, Pennsylvania Advisory Committee link. Persons interested in the work of this Committee are directed to the Commission's website, http://www.usccr.gov, or may contact the Regional Programs Coordination Unit at csanders@usccr.gov.

Agenda

I. Welcome and Roll Call

II. Chair's Comments

III. SAC Discussion of the Artificial Intelligence (AI) in education report

IV. Public Comment

V. Adjournment

Dated: August 26, 2024.
David Mussatt,
Supervisory Chief, Regional Programs Unit.

[FR Doc. 2024-19519 Filed 8-29-24; 8:45 am]

BILLING CODE P